DEPARTMENT OF THE INTERIOR

Fish and Wildlife Service

[Docket No. FWS-R4-ES-2023-0070; FXES11140400000-234-FF04EF4000]

Receipt of Incidental Take Permit Application and Proposed Habitat Conservation Plan for the Scrub-Jay; Marion County, FL; Categorical Exclusion

AGENCY: Fish and Wildlife Service, Interior.

ACTION: Notice of availability; request for comments and information.

SUMMARY: We, the Fish and Wildlife Service (Service), announce receipt of an application from Richard McGinley and Marion County, Florida (Florida Crossroads Commerce Park) (applicants) for an incidental take permit (ITP) under the Endangered Species Act. The applicants request the ITP to take the federally listed Florida scrub-jay (Aphelocoma coerulescens) incidental to the construction of a warehouse, loading docks, parking lots, and associated stormwater systems within an existing industrial park, and incidental to Marion County's expansion of SW 49th Avenue in Marion County, Florida. We request public comment on the application, which includes the applicants' proposed habitat conservation plan (HCP), and on the Service's preliminary determination that the proposed permitting action may be eligible for a categorical exclusion pursuant to the Council on Environmental Quality's National Environmental Policy Act (NEPA) regulations, the Department of the Interior's (DOI) NEPA regulations, and the DOI Departmental Manual. To make this preliminary determination, we prepared a draft environmental action statement and low-effect screening form, both of which are also available for public review. We invite comment from the public and local, State, Tribal, and Federal agencies.

DATES: We must receive your written comments on or before July 28, 2023.

ADDRESSES: Obtaining Documents: You may obtain copies of the documents online in Docket No. FWS-R4-ES-2023-0070 at https://www.regulations.gov.

Submitting Comments: If you wish to submit comments on any of the documents, you may do so in writing by one of the following methods:

• Online: https://www.regulations.gov. Follow the instructions for submitting comments on Docket No. FWS-R4-ES-2023-0070.

• U.S. mail: Public Comments Processing, Attn: Docket No. FWS-R4-ES-2023-0070; U.S. Fish and Wildlife Service, MS: PRB/3W; 5275 Leesburg Pike; Falls Church, VA 22041-3803.

FOR FURTHER INFORMATION CONTACT: Erin Gawera, by U.S. mail (see ADDRESSES), by telephone at 904-731-3121, or via email at erin_gawera@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from Richard McGinley and Marion County, Florida (Florida Crossroads Commerce Park) (applicants), for an incidental take permit (ITP) under the Endangered Species Act of 1973, as amended (ESA; 16 U.S.C. 1531 et seq.). The applicants request the ITP to take the federally listed Florida scrub-jay (Aphelocoma coerulescens) (scrub-jay) incidental to the construction and operation of a warehouse, loading docks, parking lots, and the associated stormwater systems, within an existing industrial park, and to Marion County's expansion of SW 49th Avenue in Marion County, Florida. We request public comment on the application, which includes the applicants' habitat conservation plan (HCP), and on the Service's preliminary determination that this proposed ITP qualifies as low effect, and may qualify for a categorical exclusion pursuant to the Council on Environmental Quality's National Environmental Policy Act (NEPA) regulations (40 CFR 1501.4), the Department of the Interior's (DOI) NEPA regulations (43 CFR 46), and the DOI's Departmental Manual (516 DM 8.5(C)(2)). To make this preliminary determination, we prepared a draft environmental action statement and low-effect screening form, both of which are also available for public review.

Proposed Project

The applicants request a 20-year ITP to take scrub-jays via the conversion of approximately 67.20 acres (ac) of occupied nesting, foraging, and sheltering scrub-jay habitat incidental to the construction and operation of a warehouse, loading docks, parking lots, and the associated stormwater systems, within an existing industrial park, and to Marion County's expansion of SW 49th Avenue on 131.9 ac on parcel numbers 41205-001002, 41205-001-03, 41205-001-04, 41205-001 in Section 16, Township 17 South, Range 21 East, Marion County, Florida. The applicants propose to mitigate for take of the scrub-jay by purchasing credits equivalent to 134.40 ac of scrub-jay occupied habitat within the Tippen Bay Conservation Bank or another Service-approved conservation bank. The Service would require the applicants to purchase the credits prior to engaging in any construction phase of the project.

Public Availability of Comments

Before including your address, phone number, email address, or other personal identifying information in your comment, be aware that your entire comment, including your personal identifying information, may be made available to the public. While you may request that we withhold your personal identifying information, we cannot guarantee that we will be able to do so.

Our Preliminary Determination

The Service has made a preliminary determination that the applicants' proposed project—including the construction of a warehouse, loading docks, parking lots, and Marion County's expansion of SW 49th Avenue, and the associated stormwater systems and associated infrastructure (e.g., electric, water, and sewer lines)—would individually and cumulatively have a minor effect on the scrub-jay and the human environment. Therefore, we have preliminarily determined that the proposed ESA section 10(a)(1)(B) permit would be a low-effect ITP that individually or cumulatively would have a minor effect on the scrub-jay and may qualify for application of a categorical exclusion pursuant to the Council on Environmental Quality's NEPA regulations, DOI's NEPA regulations, and the DOI Departmental Manual. A low-effect incidental take permit is one that would result in (1) minor or nonsignificant effects on species covered in the HCP; (2) nonsignificant effects on the human environment; and (3) impacts that, when added together with the impacts of other past, present, and reasonably foreseeable actions, would not result in significant cumulative effects to the human environment.

Next Steps

The Service will evaluate the application and the comments to determine whether to issue the requested permit. We will also conduct an intra-Service consultation pursuant to section 7 of the ESA to evaluate the effects of the proposed take. After considering the preceding and other matters, we will determine whether the permit issuance criteria of section 10(a)(1)(B) of the ESA have been met. If met, the Service will issue ITP number PER1971641 to Richard McGinley and Marion County (Florida Crossroads Commerce Park).

Authority

The Service provides this notice under section 10(c) of the Endangered Species Act (16 U.S.C. 1531 et seq.) and its implementing regulations (50 CFR 17.32) and the National Environmental Policy Act (42 U.S.C. 4321 et seq.) and its implementing regulations (40 CFR 1500-1508 and 43 CFR 46).

Robert L. Carey,
Manager, Division of Environmental Review, Florida Ecological Services Field Office.

[FR Doc. 2023-13780 Filed 6-27-23; 8:45 am]

BILLING CODE 4333-15-P